DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Taking Efficiency Interventions in Health Services Delivery to Scale.” In accordance with the Paperwork Reduction Act of 1995, Public Law 104-13 (44 U.S.C. 3506(c)(2)(A)), AHRQ invites the public to comment on this proposed information collection.

DATES: Comments on this notice must be received by June 9, 2014.

ADDRESSES: Written comments should be submitted to: Doris Lefkowitz, Reports Clearance Officer, AHRQ, by email at doris.lefkowitz@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@ahrq.hhs.gov.

SUPPLEMENTARY INFORMATION:

Proposed Project

Taking Efficiency Interventions in Health Services Delivery to Scale

The primary care workforce is facing imminent clinician shortages and increased demand. With the implementation of the Affordable Care Act (ACA), Federally Qualified Health Centers (FQHCs) are expected to play a major role in addressing the large numbers of people who become eligible for health insurance as well as continue in their role as safety net providers. Thus, understanding new models of service delivery and improving efficiency within FQHCs is of national policy import. The proposed data collection supports this goal through studying outcomes associated with a “delegate model,” which is designed to improve provider and team efficiency, and the spread of this model throughout a large FQHC.

Recent models of practice transformation have documented the use of an Organized Team Model that distributes responsibility for patient care among an interdisciplinary team, thus allowing physicians to manage a larger panel size while practicing high quality care. This delegate model requires that all team members perform at the top of their skill level, and that tasks currently performed by clinicians are delegated to non-clinician team members in a safe and effective manner. Researchers at the University of California, San Francisco have estimated that delegation may allow physicians to increase their panel size by shifting tasks to non-physician team members. More specifically, if portions of preventive and chronic care services are delegated to non-physicians, primary care practices can meet recommended quality and care guidelines while maintaining panel sizes with a limited primary care physician workforce. This study will examine the real-world implementation of such a model in order to build evidence of whether such delegation can achieve the predicted increases in panel sizes.

AHRQ is working with John Snow, Inc. (JSI) and its partner, Penobscot Community Health Center (PCHC), to evaluate the effectiveness and spread of a delegate model in 5 of PCHC's 15 primary care service sites. The model will be spread from an initial pilot physician-medical assistant team to other clinics, as well as to other teams within each clinic. PCHC is an FQHC located in Bangor, Maine that serves northeastern Maine. Currently, PCHC's primary care providers (PCPs, which include medical doctors, osteopaths, nurse practitioners, and physician assistants) each work with a Medical Assistant (MA). Under the delegate model, a pair of PCPs will be assigned an “administrative” MA to enhance their team. This position will enable shifting of responsibilities among the team, with the intent of relieving the PCPs of administrative tasks and incorporating new tasks that will enhance team efficiency. Examples of tasks that an administrative MA may take on include standardized prescription renewals, schedule management, in-box management, scribing, pre-visit planning with pre-appointment laboratory tests, and identification of patients for ancillary referrals (e.g., behavioral health and case management).

This study has the following goals:

(1) To evaluate the spread and effectiveness of the delegate model in five of PCHC's primary care sites;

(2) To evaluate the influence of the delegate model on provider satisfaction, team functioning, and patient satisfaction;

(3) To assess the contextual factors influencing the above outcomes; and

(4) To disseminate findings.

This study is being conducted by AHRQ through its contractor, JSI, pursuant to AHRQ's statutory authority to conduct and support research on healthcare and on systems for the delivery of such care, including activities with respect to the quality, effectiveness, efficiency, appropriateness and value of healthcare services and with respect to quality measurement and improvement. 42 U.S.C. 299a(a)(1) and (2).

Method of Collection

AHRQ seeks approval for the following data collection activities:

• Team Survey that will be disseminated to all members of both delegate and non-delegate primary care teams to assess job satisfaction and team functioning in all participating sites at two points in time.

• Key Informant Interviews (KII) conducted with staff in each of the participating sites during two rounds of site visits, with key informants to include the Medical Director, Practice Director, members of primary care teams implementing the delegate model, and ancillary staff. A condensed version of the interview will be used for a conference call with each participating site's Medical Director and Practice Director as an interim activity between the two site visits.

The information yielded from this study is expected to inform a wide cross section of audiences and stakeholders about provider efficiency, practice redesign, team-based care, workforce strategies, and spread of an innovation. This study is not intended to make broad generalizations about the effectiveness of the delegate model of care, but rather to build initial evidence about this promising new model, its ability to increase panel size in FQHCs, and provide guidance on how similar models might be spread and evaluated.

Estimated Annual Respondent Burden

Exhibit 1 shows the estimated annualized burden for the respondents' time to participate in this research. Information will be collected through an internet-based team survey and in-person and telephone interviews. Note that some respondents may be double-counted, so the total number of respondents may be less than 80. For example, a respondent may fill out a survey as well as participate in a phone interview.

Exhibit 2 shows the estimated annualized cost burden associated with the respondents' time to participate in this research. The total annual cost burden is estimated to be $25,151.

Exhibit 1—Estimated Annualized Burden Hours
Form name | Number of respondents | Number of responses per respondent | Hours per response | Total burden hours
Team Survey:
—Providers | 21 | 2 | 15/60 | 11
—Other Clinical Staff | 34 | 2 | 15/60 | 17
Total | 55 | 2 | 15/60 | 28
Key Informant Interviews (Site visits):
—Medical Director | 2 | 2 | 30/60 | 2
—Practice Director | 2 | 2 | 30/60 | 2
—Providers | 5 | 2 | 30/60 | 5
—Other Clinical Staff | 10 | 2 | 30/60 | 10
Total | 19 | 2 | 30/60 | 19
Key Informant Interviews (Phone calls):
—Medical Director | 3 | 1 | 1 | 3
—Practice Director | 3 | 1 | 1 | 3
Total | 6 | 1 | 1 | 6
Total | 80 | na | na | 53

Exhibit 2—Estimated Annualized Cost Burden
Form name | Number of respondents | Total burden hours | Average hourly wage rate* | Total cost burden
Team Survey:
—Providers | 21 | 11 | ᵃ $62.13 | $14,352
—Other Clinical Staff | 34 | 17 | ᵇ 14.69 | 8,491
Total | 55 | 28 | na | 22,843
Key Informant Interviews (Site Visit):
—Medical Director | 2 | 2 | ᶜ 92.08 | 368
—Practice Director | 2 | 2 | ᵈ 47.34 | 189
—Providers | 5 | 2 | ᵃ 62.13 | 621
—Other Clinical Staff | 10 | 2 | ᵇ 14.69 | 294
Total | 19 | 8 | na | 1,472
Key Informant Interviews (Phone calls):
—Medical Director | 3 | 2 | ᶜ 92.08 | 552
—Practice Director | 3 | 2 | ᵈ 47.34 | 284
Total | 6 | 4 | na | 836
Total | 80 | na | na | 25,151
* National Compensation Survey: Occupational wages in the United States May 2012, “U.S. Department of Labor, Bureau of Labor Statistics.”
ᵃ Based on the average mean wages for three categories of primary care provider ($92.08—MDs; $44.45 PAs; and $43.97—NPs).
ᵇ Based on the mean wage of Medical Assistants.
ᶜ Based on the mean wages for MDs.
ᵈ Based on the mean wages for Medical and Health Services Managers.
ᵉ Based on the mean wages for Data Analyst (Computer and Information Analyst).

Request for Comments

In accordance with the Paperwork Reduction Act, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: March 31, 2014.
Richard Kronick,
AHRQ Director.

[FR Doc. 2014-07795 Filed 4-7-14; 8:45 am]

BILLING CODE 4160-90-P